DEPARTMENT OF TRANSPORTATION

Federal Aviation Administration

14 CFR Part 39

[Docket No. FAA-2017-1125; Product Identifier 2017-SW-078-AD]

RIN 2120-AA64

Airworthiness Directives; MD Helicopters Inc. Helicopters

AGENCY: Federal Aviation Administration (FAA), DOT.

ACTION: Notice of proposed rulemaking (NPRM).

SUMMARY: We propose to adopt a new airworthiness directive (AD) for MD Helicopters Inc. (MDHI) Model 600N helicopters. This proposed AD would require establishing a life limit for the main rotor (M/R) blade upper control collective/longitudinal link assembly (link assembly). This proposed AD is prompted by the discovery that the life limit was omitted from the maintenance manual. The actions of this proposed AD are intended to prevent an unsafe condition on these products.

DATES: We must receive comments on this proposed AD by November 9, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2017-1125; or in person at the Docket Operations between 9 a.m. and 5 p.m., Monday through Friday, except Federal holidays. The AD docket contains this proposed AD, the economic evaluation, any comments received, and other information. The street address for the Docket Operations (telephone 800-647-5527) is in the ADDRESSES section. Comments will be available in the AD docket shortly after receipt.

For service information identified in this proposed rule, contact MD Helicopters, Inc., Attn: Customer Support Division, 4555 E. McDowell Rd., Mail Stop M615, Mesa, AZ 85215-9734; telephone 1-800-388-3378; fax 480-346-6813; or at http://www.mdhelicopters.com. You may review the referenced service information at the FAA, Office of the Regional Counsel, Southwest Region, 10101 Hillwood Pkwy, Room 6N-321, Fort Worth, TX 76177.

FOR FURTHER INFORMATION CONTACT: Galib Abumeri, Aerospace Engineer (Structures), Airframe Section, Los Angeles ACO Branch, Compliance and Airworthiness Division, FAA, 3960 Paramount Blvd., Lakewood, California 90712; telephone 562-627-5324; email galib.abumeri@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for MDHI Model 600N helicopters with a yaw stability augmentation system and with a link assembly part number (P/N) 600N7617-1 installed. This proposed AD would require establishing a life limit of 15,000 hours time-in-service (TIS) for the link assembly.

This proposed AD is prompted by a report from MDHI that during a review of the Airworthiness Limitations section of the applicable maintenance manual, MDHI discovered that it did not include a life limit for link assemblies installed on MDHI Model 600N helicopters with a yaw stability augmentation system. Link assembly P/N 600N7617-1, which is made of aluminum, is a life-limited part with a life limit of 15,000 hours TIS. MDHI subsequently revised the Airworthiness Limitations section of the maintenance manual to include the life limit. The proposed actions are intended to prevent a link assembly remaining in service beyond its life limit, which could result in fatigue failure, loss of M/R blade pitch control, and subsequent loss of helicopter control.

Related Service Information

We reviewed MDHI CSP-HMI-2 MDHI Maintenance Manual, Chapter 04, Airworthiness Limitations, Revision 47, dated September 30, 2016. This service information specifies a 15,000-hour TIS life limit for link assembly P/N 600N7617-1 for helicopters with a yaw stability augmentation system.

FAA's Determination

We are proposing this AD because we evaluated all known relevant information and determined that an unsafe condition exists and is likely to exist or develop on other products of these same type designs.

Proposed AD Requirements

This proposed AD would require creating a component history card or equivalent record for each affected link assembly, if one does not exist, and recording a life limit of 15,000 hours TIS. This proposed AD would also require determining the hours TIS of the link assembly and replacing each link assembly that has reached or exceeded its life limit.

Costs of Compliance

We estimate that this proposed AD would affect 26 helicopters of U.S. Registry and that labor costs average $85 a work-hour. Based on these estimates, we expect it would take 30 minutes to determine the hours TIS of each link assembly and update the aircraft records for a cost of $85 per helicopter and $2,210 for the U.S. fleet. Replacing a link assembly, if needed, would require 2 work-hours, and parts would cost $984 for a cost of $1,154 per link per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

MD Helicopters Inc.: Product No. FAA-2017-1125; Product Identifier 2017-SW-078-AD.

(a) Applicability

This AD applies to MD Helicopters Inc. (MDHI) Model 600N helicopters, certificated in any category, with a yaw stability augmentation system and with a main rotor (M/R) blade upper control collective/longitudinal link assembly (link assembly) part number (P/N) 600N7617-1 installed.

(b) Unsafe Condition

This AD defines the unsafe condition as a link assembly remaining in service beyond its fatigue life. This condition could result in failure of the link assembly, failure of M/R blade pitch control, and subsequent loss of helicopter control.

(c) Comments Due Date

We must receive comments by November 9, 2018.

(d) Compliance

You are responsible for performing each action required by this AD within the specified compliance time unless it has already been accomplished prior to that time.

(e) Required Actions

Within 100 hours time-in-service (TIS):

(1) Determine the total hours time-in-service (TIS) of each link assembly P/N 600N7617-1. If the hours TIS are unknown, use the hours TIS of the helicopter. Remove from service any link assembly that has 15,000 or more hours TIS. Thereafter, remove from service any link assembly before accumulating 15,000 hours TIS.

(2) Create a component history card or equivalent record for each link assembly P/N 600N7617-1 and record a life limit of 15,000 hours TIS.

(f) Special Flight Permits

Special flight permits are prohibited.

(g) Alternative Methods of Compliance (AMOC)

(1) The Manager, Los Angeles ACO Branch, FAA, may approve AMOCs for this AD. Send your proposal to: Galib Abumeri, Aerospace Engineer (Structures), Airframe Section, Los Angeles ACO Branch, Compliance and Airworthiness Division, FAA, 3960 Paramount Blvd., Lakewood, California 90712; telephone 562-627-5324; email galib.abumeri@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

For service information identified in this AD, contact MD Helicopters, Inc., Attn: Customer Support Division, 4555 E. McDowell Rd., Mail Stop M615, Mesa, AZ 85215-9734; telephone 1-800-388-3378; fax 480-346-6813; or at http://www.mdhelicopters.com. You may review a copy of information at the FAA, Office of the Regional Counsel, Southwest Region, 10101 Hillwood Pkwy, Room 6N-321, Fort Worth, TX 76177.

(i) Subject

Joint Aircraft Service Component (JASC) Code: 6710, Main Rotor Control.

Issued in Fort Worth, Texas, on August 27, 2018.
Scott A. Horn,
Deputy Director for Regulatory Operations, Compliance & Airworthiness Division, Aircraft Certification Service.

[FR Doc. 2018-19435 Filed 9-7-18; 8:45 am]

BILLING CODE 4910-13-P